DEPARTMENT OF ENERGY

Federal Energy Regulatory Commission

Combined Notice of Filings #1

Take notice that the Commission received the following electric rate filings:

Docket Numbers: ER08-1126-004; ER08-1128-004 ER08-1129-004; ER08-1130-004; ER08-1131-004; ER08-1134-004; ER08-1135-004; ER08-1136-004; ER08-1137-004; ER08-1139-004.

Applicants: Georgia-Pacific Brewton LLC, Brunswick Cellulose, Inc., Georgia-Pacific Cedar Springs LLC, Georgia-Pacific Consumer Operations LLC, Georgia-Pacific Consumer Products LP, Georgia-Pacific LLC, Georgia-Pacific Monticello LLC, Leaf River Cellulose, LLC.

Description: Supplemental Triennial Market Power Filing on behalf of the Georgia-Pacific Entities in the Southeast.

Filed Date: 5/23/12.

Accession Number: 20120523-5180.

Comments Due: 5 p.m. ET 6/13/12.

Docket Numbers: ER11-4452-001.

Applicants: Buy Energy Direct LLC.

Description: Buy Energy Direct LLC submits tariff filing per 35: COMPLIANCE BASE LINE TARIFF to be effective 9/7/2011.

Filed Date: 5/23/12.

Accession Number: 20120523-5125.

Comments Due: 5 p.m. ET 6/13/12.

Docket Numbers: ER12-430-002.

Applicants: Southwest Power Pool, Inc.

Description: Southwest Power Pool, Inc. submits tariff filing per 35.17(b): Amendatory Filing to Attachment AE Review and Assessment of Resource Plans to be effective 5/24/2012.

Filed Date: 5/23/12.

Accession Number: 20120523-5159.

Comments Due: 5 p.m. ET 6/13/12.

Docket Numbers: ER12-1833-000.

Applicants: PJM Interconnection, L.L.C.

Description: First Revised Service Agreement No. 2922; Queue No. W2-090 to be effective 5/1/2011.

Filed Date: 5/23/12.

Accession Number: 20120523-5073.

Comments Due: 5 p.m. ET 6/13/12.

Docket Numbers: ER12-1833-001.

Applicants: PJM Interconnection, L.L.C.

Description: PJM Interconnection, L.L.C. submits tariff filing per 35.17(b): Errata to correct Metadata to First Revised SA No. 2922 in ER12-1833 to be effective 5/1/2012.

Filed Date: 5/23/12.

Accession Number: 20120523-5160.

Comments Due: 5 p.m. ET 6/13/12.

Docket Numbers: ER12-1834-000.

Applicants: Vermont Electric Power Company, Inc.

Description: Vermont Electric Power Company, Inc. submits tariff filing per 35.1: Vermont True Up Agreement to be effective 7/23/2012.

Filed Date: 5/23/12.

Accession Number: 20120523-5154.

Comments Due: 5 p.m. ET 6/13/12.

Docket Numbers: ER12-1835-000.

Applicants: Midwest Independent Transmission System Operator, Inc.

Description: Midwest Independent Transmission System Operator, Inc. submits tariff filing per 35.13(a)(2)(iii: G604 Amended GIA to be effective 5/24/2012.

Filed Date: 5/23/12.

Accession Number: 20120523-5155.

Comments Due: 5 p.m. ET 6/13/12.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 24, 2012.
Nathaniel J. Davis, Sr.,
Deputy Secretary.

[FR Doc. 2012-13548 Filed 6-4-12; 8:45 am]

BILLING CODE 6717-01-P